DEPARTMENT OF COMMERCE

[I.D. 070901E]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Observer Workshop/Conference Survey.

Form Number(s): None.

OMB Approval Number: None.

Type of Request: Regular submission.

Burden Hours: 44.

Number of Respondents: 175.

Average Hours Per Response: 15 minutes.

Needs and Uses: In March 1998 and June 2000 NOAA coordinated and conducted workshops on fishery observer programs. NOAA now wants to request feedback about these workshops from participants. The information will be used to plan for the next workshop, which is planned for 2002 and which will also be coordinated and sponsored by NOAA.

Affected Public: Federal government, individuals or households, business or other for-profit organizations, not-for-profit institutions, and State, Local, or Tribal Government.

Frequency: Biennial.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 6, 2001.
Madeleine Clayton,
Departmental Paperwork Clearance Officer, Office of the Chief Information Officer.

[FR Doc. 01-17577 Filed 7-12-01; 8:45 am]

BILLING CODE 3510-22-S